DEPARTMENT OF HOMELAND SECURITY

Coast Guard

33 CFR Part 117

[Docket Number USCG-2012-0226]

Drawbridge Operation Regulation; St. Croix River, Stillwater, MN

AGENCY: Coast Guard, DHS.

ACTION: Notice of temporary deviation from regulations.

SUMMARY: The Coast Guard has issued a temporary deviation from the operating schedule that governs the Stillwater Highway Drawbridge across the St. Croix River, mile 23.4, at Stillwater, Minnesota. The deviation is necessary to enable completion of repairs to the bridge. This deviation allows the bridge to be operated on a restricted opening schedule.

DATES: This deviation is effective from 8:00 a.m. on October 15, 2012 to 7:59 a.m. on December 31, 2012.

ADDRESSES: Documents mentioned in this preamble as being available in the docket are part of docket USCG-2012-0226 and are available online by going to http://www.regulations.gov, inserting USCG-2012-0226 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Eric A. Washburn, Bridge Administrator, Western Rivers, Coast Guard; telephone (314) 269-2378, email Eric.Washburn@uscg.mil. If you have questions on viewing the docket, call Renee V. Wright, Program Manager, Docket Operations, telephone (202) 366-9826.

SUPPLEMENTARY INFORMATION: The Minnesota Department of Transportation requested a temporary deviation for the Stillwater Highway Drawbridge, across the St. Croix River, mile 23.4, at Stillwater, Minnesota to be operated on a restricted opening schedule from October 15, 2012 until December 31, 2012; as follows:

From 8:00 a.m. October 15, 2012 through 7:59 a.m. October 20, 2012, lift span will remain in the closed-to-navigation position.

From 8:00 a.m. October 20, 2012, through 5:59 p.m. October 21, 2012, lift span will open with 24-hour advance notice.

From 6:00 p.m. October 21, 2012, through 7:59 a.m. October 27, 2012, lift span will remain in the closed-to-navigation position.

From 8:00 a.m. October 27, 2012, through 5:59 p.m. October 28, 2012, lift span will open with 24-hour advance notice.

From 6:00 p.m. October 28, 2012, through 7:59 a.m. November 3, 2012, lift span will remain in the closed-to-navigation position.

From 8:00 a.m. November 3, 2012, through 5:59 p.m. November 4, 2012, lift span will open with 24-hour advance notice.

From 6:00 p.m. November 4, 2012, through 7:59 a.m. December 31, 2012, lift span will remain in the closed-to-navigation position.

The Stillwater Highway Drawbridge currently operates in accordance with 33 CFR 117.667(b), which states specific seasonal and commuter hours operating requirements.

There are no alternate routes for vessels transiting this section of the St. Croix River. For emergency vessels, there will be a contingency plan in place.

The Stillwater Highway Drawbridge, in the closed-to-navigation position, provides a vertical clearance of 10.9 feet above normal pool. Navigation on the waterway primarily consists of commercial sightseeing/dinner cruise boats and recreational watercraft. This temporary deviation has been coordinated with waterway users. No objections were received.

In accordance with 33 CFR 117.35(e), the drawbridge must return to its regular operating schedule immediately at the end of the designated time period. This deviation from the operating regulations is authorized under 33 CFR 117.35.

Dated: March 27, 2012.
Eric A. Washburn,
Bridge Administrator, Western Rivers.

[FR Doc. 2012-10432 Filed 4-30-12; 8:45 am]

BILLING CODE 9110-04-P